DEPARTMENT OF COMMERCE

International Trade Administration

[A-552-801]

Certain Frozen Fish Fillets From the Socialist Republic of Vietnam: Initiation of Antidumping Duty New Shipper Reviews

AGENCY: Import Administration, International Trade Administration, Department of Commerce.

DATES: Effective Date: April 3, 2012.

SUMMARY: The Department of Commerce (the “Department”) has determined that requests for four new shipper reviews (“NSRs”) of the antidumping duty order on certain frozen fish fillets (“fish”) from the Socialist Republic of Vietnam (“Vietnam”) meet the statutory and regulatory requirements for initiation. The period of review (“POR”) for these NSRs is August 1, 2011, through January 31, 2012.

FOR FURTHER INFORMATION CONTACT: Seth Isenberg, AD/CVD Operations, Office 9, Import Administration, International Trade Administration, U.S. Department of Commerce, 14th Street and Constitution Avenue NW., Washington, DC 20230; telephone: 202-482-0588.

SUPPLEMENTARY INFORMATION:

Background

The antidumping duty order on fish from Vietnam was published in the Federal Register on August 12, 2003.¹ On February 15, and 28, 2012, pursuant to section 751(a)(2)(B)(i) of the Tariff Act of 1930, as amended (the “Act”), and 19 CFR 351.214, the Department received NSR requests from Quang Minh Seafood Co., Ltd., Dai Thanh Seafoods Company Limited, Fatifish Company Limited, and Hoang Long Seafood Processing Co., Ltd. (collectively, “requesting companies”). The requesting companies certified that they are producers and exporters of the subject merchandise upon which the requests were based.

¹ See Notice of Antidumping Duty Order: Certain Frozen Fish Fillets From the Socialist Republic of Vietnam, 68 FR 47909 (August 12, 2003).

Pursuant to section 751(a)(2)(B)(i)(I) of the Act and 19 CFR 351.214(b)(2)(i), the requesting companies certified that they did not export subject merchandise to the United States during the period of investigation (“POI”). In addition, pursuant to section 751(a)(2)(B)(i)(II) of the Act and 19 CFR 351.214(b)(2)(iii)(A), the requesting companies certified that, since the initiation of the investigation, they have never been affiliated with any Vietnamese exporter or producer who exported subject merchandise to the United States during the POI, including those respondents not individually examined during the investigation. As required by 19 CFR 351.214(b)(2)(iii)(B), the requesting companies also certified that their export activities were not controlled by the central government of Vietnam.

In addition to the certifications described above, pursuant to 19 CFR 351.214(b)(2)(iv), the requesting companies submitted documentation establishing the following: (1) The date on which they first shipped subject merchandise for export to the United States; (2) the volume of their first shipment; and (3) the date of their first sale to an unaffiliated customer in the United States.²

² See also “Memorandum to the File, from Scot Fullerton, Program Manager, “Certain Frozen Fish Fillets From the Socialist Republic of Vietnam: Placing CBP data on the record,” dated concurrently with this notice.

Initiation of New Shipper Reviews

Pursuant to section 751(a)(2)(B) of the Act and 19 CFR 351.214(d)(1), we find that the requests submitted by the requesting companies meet the threshold requirements for initiation of NSRs for shipments of fish from Vietnam produced and exported by the requesting companies.³ The POR is August 1, 2011, through January 31, 2012.⁴ The Department intends to issue the preliminary results of these NSRs no later than 180 days from the date of initiation, and the final results no later than 270 days from the date of initiation.⁵

³ See “Memorandum to the File, from Scot Fullerton, Program Manager, “Certain Frozen Fish Fillets From the Socialist Republic of Vietnam: New Shipper Initiation Checklists,” dated concurrently with this notice.

⁴ See 19 CFR 351.214(g)(1)(i)(B).

⁵ See section 751(a)(2)(B)(iv) of the Act.

It is the Department's usual practice, in cases involving non-market economies (“NMEs”), to require that a company seeking to establish eligibility for an antidumping duty rate separate from the NME entity-wide rate provide evidence of de jure and de facto absence of government control over the company's export activities. Accordingly, we will issue questionnaires to the requesting companies, which will include a section requesting information with regard to the requesting companies' export activities for separate rate purposes. Each NSR will proceed if the responses provide sufficient indication that the requesting companies are not subject to either de jure or de facto government control with respect to their export of subject merchandise.

We will instruct U.S. Customs and Border Protection to allow, at the option of the importer, the posting, until the completion of the review, of a bond or security in lieu of a cash deposit for each entry of the subject merchandise from the requesting companies in accordance with section 751(a)(2)(B)(iii) of the Act and 19 CFR 351.214(e). Because the requesting companies certified that they both produced and exported the subject merchandise, the sale of which is the basis for each new shipper review request, we will apply the bonding privilege to the requesting companies only for subject merchandise which the requesting companies both produced and exported.

Interested parties requiring access to proprietary information in these NSRs should submit applications for disclosure under administrative protective order, in accordance with 19 CFR 351.305 and 19 CFR 351.306.

This initiation and notice are in accordance with section 751(a)(2)(B) of the Act, 19 CFR 351.214 and 19 CFR 351.221(c)(1)(i).

Dated: March 28, 2012.
Gary Taverman,
Acting Deputy Assistant Secretary for Antidumping and Countervailing Duty Operations.

[FR Doc. 2012-7979 Filed 4-2-12; 8:45 am]

BILLING CODE 3510-DS-P